DEPARTMENT OF ENERGY

Federal Energy Regulatory Commission

Notice of Effectiveness of Exempt Wholesale Generator Status

LWP Lessee, LLC | Docket No. EG11-89-000
El Segundo Energy Center LLC | Docket No. EG11-90-000
Mojave Solar LLC | Docket No. EG11-91-000
Pocahontas Prairie Wind, LLC | Docket No. EG11-92-000
Pocahontas Prairie Wind, LLC | Docket No. EG11-93-000
Hatch Solar Energy Center I, LLC | Docket No. EG11-94-000
Calpine Greenleaf, Inc | Docket No. EG11-95-000
Stony Creek Energy LLC | Docket No. EG11-96-000
Post Rock Wind Power Project, LLC | Docket No. EG11-97-000
Shiloh III Wind Project, LLC | Docket No. EG11-98-000
Granite Reliable Power, LLC | Docket No. EG11-99-000

Take notice that during the month of August 2011, the status of the above-captioned entities as Exempt Wholesale Generators became effective by operation of the Commission's regulations. 18 CFR 366.7(a).

Dated: September 19, 2011.
Kimberly D. Bose,
Secretary.

[FR Doc. 2011-24758 Filed 9-26-11; 8:45 am]

BILLING CODE 6717-01-P